DEPARTMENT OF COMMERCE

International Trade Administration

[A-122-601]

Brass Sheet and Strip From Canada: Amended Final Results of Antidumping Duty Administrative Review in Accordance With Panel Decision Upon Remand

AGENCY: Import Administration, International Trade Administration, Department of Commerce.

ACTION: Notice of amendment to final results of antidumping duty administrative review in accordance with Panel decision upon remand.

SUMMARY: As a result of a remand from a Binational Panel (“the Panel”), convened pursuant to the North American Free Trade Agreement (“NAFTA”), the Department of Commerce (“the Department”) is amending its final results in the antidumping duty administrative review of Brass Sheet and Strip from Canada. The Department has determined, in accordance with the instruction of the Panel, the dumping margin for entries of Brass Sheet and Strip from Canada for the 1996 period of review to be 0.40 percent.

EFFECTIVE DATE: February 25, 2000.

FOR FURTHER INFORMATION CONTACT: Paige Rivas or James Terpstra, Office of Antidumping/Countervailing Duty Enforcement, Office Four, Group II, Import Administration, International Trade Administration, U.S. Department of Commerce, 14th Street and Constitution Avenue, NW, Washington, DC 20230; telephone: (202) 482-0651 or 482-3965, respectively.

SUPPLEMENTARY INFORMATION:

Background

On June 17, 1998, the Department published the final results of the antidumping duty administrative review for the period January 1, 1996 through December 31, 1996 with respect to Brass Sheet and Strip from Canada. Brass Sheet and Strip from Canada: Final Results of Antidumping Duty Administrative Review and Notice of Intent Not To Revoke Order in Part (“Final Results”), 64 Fed. Reg. 33037.

Subsequent to the publication of those Final Results, the sole respondent, Wolverine Tube (Canada) Inc. (“Wolverine”), and a coalition representing the United States brass industry (“Petitioner”) challenged the Department's findings and requested that the Panel review the Final Results with respect to various issues. Thereafter, at the Department's request, the Panel remanded the Department's final determination to permit the Department to correct its use of a simple-average cost of production instead of a weighted-average cost of production for Wolverine. In the Matter of: Brass Sheet and Strip from Canada, Secretariat File USA-CAN-98-1904-03 (July 16, 1999). The July 16, 1999 Decision of the Panel upheld the Department as to all other contested issues.

On remand, the Department recalculated Wolverine's cost of production using a weighted-average methodology. The recalculated margin for Wolverine was 0.40 percent. During the 1996 review, Wolverine, which had received de minimis margins in the 1994 and 1995 reviews, had requested that it be revoked from the antidumping duty order if it received a third de minimis margin in the 1996 review. In the Final Results, Commerce did not reach the question of whether Wolverine had otherwise met the criteria for revocation from the order because Wolverine had not met the first criterion for revocation. Specifically Wolverine had not obtained a third sequential de minimis margin in the 1996 review. 64 FR at 33041. Therefore, on remand, the Department went on to consider whether, in view of the recalculated de minimis margin for the 1996 review, Wolverine met the other criteria for revocation from the order. The Department determined that, because Wolverine had received an above de minimis margin in the 1997 review, this margin constituted sufficient positive evidence that the discipline of the order continued to be necessary to offset dumping by Wolverine, and that, were the order to be revoked, it was likely that Wolverine would continue to dump subject merchandise in the United States. The Department submitted its remand determination, upon which parties had been allowed to comment, to the Panel on September 14, 1999.¹

¹ For a complete discussion of the Department's reasoning with respect to the remand issues, see Redetermination on Remand: Brass Sheet and Strip from Canada; Final Results of Antidumping Duty Administrative Review (September 14, 1999).

On November 5, 1999, the Panel affirmed the remand redetermination of the Department. In the Matter of: Brass Sheet and Strip from Canada, Secretariat File USA-CAN-98-1904-03 (November 5, 1999)(Order of the Panel). As a result, the margin for Wolverine for the 1996 POR was reduced from 0.67 to 0.40 percent.

Suspension of Liquidation

There is now a final and conclusive decision in the Panel proceeding. See North American Free-Trade Agreement, Article 1904 NAFTA Panel Reviews; Notice of Completion of Panel Review, 64 FR 73015 (December 29, 1999). Therefore, effective as of the publication date of this notice, the following final weighted-average percent margin exists:

Producer/manufacturer/exporter | Weight-average percent
Wolverine | 0.40

Due to the fact that 0.40 percent is considered de minimis, pursuant to 19 CFR 351.106(c), the Department will instruct the Customs Service to liquidate at zero percent all shipments of the subject merchandise entered, or withdrawn from warehouse, for consumption during the period January 1, 1996 through December 31, 1996. The Customs Service will continue to suspend liquidation of future entries and require a cash deposit in the amount of the margin calculated in the most recent administrative review, i.e., the cash deposits described in the final results of the 1997 review. See Brass Sheet and Strip from Canada: Final Results of Antidumping Duty Administrative Review and Notice of Intent Not to Revoke Order in Part, 64 FR 46344, 46349 (August 25, 1999).

This notice is published pursuant to 19 U.S.C. 1516a(g)(5)(B)(1996); section 735(d) of the Tariff Act of 1930, as amended (19 U.S.C. 1673d(d)(1996)); and 19 CFR 351.210(c).

Dated: February 14, 2000.
Robert S. LaRussa,
Assistant Secretary for Import Administration.

[FR Doc. 00-4522 Filed 2-24-00; 8:45 am]

BILLING CODE 3510-DS-P